DEPARTMENT OF TRANSPORTATION

[Docket No. DOT-OST-2023-0092]

Potential Research and Development Areas of Interest for the Advanced Research Projects Agency—Infrastructure (ARPA-I); Request for Information; Extension of Comment Period

AGENCY: Department of Transportation (DOT).

ACTION: Notice; request for information (RFI); extension of comment period.

SUMMARY: On June 13, 2023, the Office of the Assistant Secretary for Research and Technology (OST-R) of the Department of Transportation (DOT) published in the Federal Register a request for information seeking comments on potential research and development areas of interest for the Advanced Research Projects Agency—Infrastructure (ARPA-I). That request established a 45-day comment period closing on July 28, 2023. DOT is extending the public comment period until August 11, 2023.

DATES: The comment period for the notice published on June 13, 2023 (88 FR 38590) is extended. The due date for submitting comments is August 11, 2023.

ADDRESSES: Please submit any written comments to Docket Number DOT-OST-2023-0092 electronically through the Federal eRulemaking Portal at https://regulations.gov. Go to https://regulations.gov and select “Department of Transportation (DOT)” from the agency menu to submit or view public comments. Note that, except as provided below, all submissions received, including any personal information provided, will be posted without change and will be available to the public on https://www.regulations.gov. You may review DOT's complete Privacy Act Statement in the Federal Register published on April 11, 2000 (65 FR 19477) or at https://www.transportation.gov/privacy.

FOR FURTHER INFORMATION CONTACT: For further information contact Mr. Timothy A. Klein, Director, Technology Policy and Outreach, Office of the Assistant Secretary for Research and Technology (202-366-0075) or by email at timothy.klein@dot.gov.

SUPPLEMENTARY INFORMATION: DOT published a request for information in the Federal Register on June 13, 2023 (88 FR 38590) seeking comments on potential research and development areas of interest for the Advanced Research Projects Agency—Infrastructure (ARPA-I). The public comment period is extended to August 11, 2023. All other information in the notice from June 13, 2023 remains the same.

Confidential Business Information: Do not submit information disclosure of which is restricted by statute, such as trade secrets and commercial or financial information (hereinafter referred to as Confidential Business Information “CBI”) to Regulations.gov. Comments submitted through Regulations.gov cannot be claimed as CBI. Comments received through the website will waive any CBI claims for the information submitted.

Dated: July 21, 2023.
Robert C. Hampshire,
Deputy Assistant Secretary for Research and Technology.

[FR Doc. 2023-15850 Filed 7-25-23; 8:45 am]

BILLING CODE 4910-9X-P